DEPARTMENT OF TRANSPORTATION

Federal Aviation Administration

14 CFR Part 39

[Docket No. 2000-SW-06-AD; Amendment 39-11645; AD 2000-06-05]

RIN 2120-AA64

Airworthiness Directives; Eurocopter France Model SA330F, SA330G, SA330J, AS332C, AS332L, AS332L1, and AS332L2

AGENCY: Federal Aviation Administration, DOT.

ACTION: Final rule; request for comments.

SUMMARY: This amendment adopts a new airworthiness directive (AD) applicable to Eurocopter France Model SA330F, SA330G, SA330J, AS332C, AS332L, AS332L1, and AS332L2 helicopters. This action requires replacing certain tail rotor blades before further flight after April 30, 2000. This amendment is prompted by loss of control of a helicopter due to a lightning strike on a tail rotor blade. This condition, if not corrected, could result in loss of a tail rotor blade and subsequent loss of control of the helicopter.

DATES: Effective April 10, 2000.

Comments for inclusion in the Rules Docket must be received on or before May 23, 2000.

ADDRESSES: Submit comments in triplicate to the Federal Aviation Administration (FAA), Office of the Regional Counsel, Southwest Region, Attention: Rules Docket No. 2000-SW-06-AD, 2601 Meacham Blvd., Room 663, Fort Worth, Texas 76137.

The service information referenced in this AD may be obtained from American Eurocopter Corporation, 2701 Forum Drive, Grand Prairie, Texas 75053-4005, telephone (972) 641-3460, fax (972) 641-3527.

FOR FURTHER INFORMATION CONTACT: Jim Grigg, Aerospace Engineer, FAA, Rotorcraft Directorate, Regulations Group, Fort Worth, Texas 76193-0111, telephone (817) 222-5490, fax (817) 222-5961.

SUPPLEMENTARY INFORMATION: The Direction Generale De L'Aviation Civile (DGAC), the airworthiness authority for France, recently notified the FAA that an unsafe condition may exist on Eurocopter France Model SA330F, SA330G, SA330J, AS332C, AS332L, AS332L1, and AS332L2 helicopters. The DGAC advises withdrawing tail rotor blades, part numbers (P/N) 332A12-0010, -0020, -0030, -0035, and -0045, and all dash numbers of these P/N, from service by March 31, 2000, due to an accident caused by a lightning strike on a tail rotor blade, P/N 332A-12-0010, fitted on an AS332 helicopter.

Eurocopter France has issued Service Bulletins 01.57 for the Models SA330 and 01.00.59 for the Models AS332, both dated November 23, 1999, which specify withdrawing tail rotor blades, P/N 332A12-0010, -0020, -0030, -0035, -0045, and all dash numbers of these P/N, from service. The DGAC classified these service bulletins as mandatory and issued AD's 2000-002-081(A) and 2000-003-075(A), both dated January 12, 2000, to ensure the continued airworthiness of these helicopters in France.

These helicopter models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of these type designs that are certificated for operation in the United States.

Since an unsafe condition has been identified that is likely to exist or develop on other Eurocopter France Model SA330F, SA330G, SA330J, AS332C, AS332L, AS332L1, and AS332L2 helicopters of the same type designs registered in the United States, this AD is being issued to prevent failure of a tail rotor blade due to a lightning strike. This AD requires removing from service any tail rotor blade, P/N 332A-12-0010, -0020, -0030, -0035, and -0045, and all dash numbers of these P/N. The actions are required to be accomplished in accordance with the service bulletins described previously. The short compliance time involved is required because the previously described critical unsafe condition can adversely affect the controllability and structural integrity of the helicopter. Therefore, removing and replacing these tail rotor blades are required before further flight after April 30, 2000, and this AD must be issued immediately.

Since a situation exists that requires the immediate adoption of this regulation, it is found that notice and opportunity for prior public comment hereon are impracticable, and that good cause exists for making this amendment effective in less than 30 days.

The FAA estimates that 7 helicopters will be affected by this AD, that it will take approximately 2 work hours to accomplish removing and replacing the tail rotor blades, and that the average labor rate is $60 per work hour. Required parts will cost approximately $150,000 per helicopter. Based on these figures, the total cost impact of the AD on U.S. operators is estimated to be $1,050,840 to replace the tail rotor blades on the entire fleet.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 2000-SW-06-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-06-05 Eurocopter France:

Amendment 39-11645. Docket No. 2000-SW-06-AD.

Applicability: SA330F, SA330G, SA330J, AS332C, AS332L, AS332L1, and AS332L2 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight after April 30, 2000, unless accomplished previously.

To prevent failure of a tail rotor blade due to a lightning strike and subsequent loss of control of the helicopter, accomplish the following:

(a) Remove from service any tail rotor blade with a following part number (P/N), including all dash numbers for each P/N:

332A-12-0010

332A-12-0020

332A-12-0030

332A-12-0035

332A-12-0045

Replace with an airworthy tail rotor blade with a following P/N:

332A-12-0050-01 or

332A-12-0055-01

Note 2: Eurocopter France Service Bulletins 01.57 for the Models SA330 and 01.00.59 for the Models AS332, both dated November 23, 1999, pertain to the subject of this AD.

(b) An alternative method of compliance or adjustment of the compliance time that provides an acceptable level of safety may be used if approved by the Manager, Regulations Group, Rotorcraft Directorate, FAA. Operators shall submit their requests through an FAA Principal Maintenance Inspector who may concur or comment and then send it to the Manager, Regulations Group.

Note 3: Information concerning the existence of approved alternative methods of compliance with this AD, if any, may be obtained from the Regulations Group.

(c) Special flight permits may be issued in accordance with sections 21.197 and 21.199 of the Federal Aviation Regulations (14 CFR 21.197 and 21.199) to operate the helicopter to a location where the requirements of this AD can be accomplished.

(d) This amendment becomes effective on April 10, 2000.

Note 4: The subject of this AD is addressed in Direction Generale De L'Aviation Civile (France) AD's 2000-002-081(A) and 2000-003-075(A), both dated January 12, 2000.

Issued in Fort Worth, Texas, on March 15, 2000.
Eric Bries,
Acting Manager, Rotorcraft Directorate, Aircraft Certification Service.

[FR Doc. 00-7111 Filed 3-23-00; 8:45 am]

BILLING CODE 4910-13-U